DEPARTMENT OF COMMERCE

International Trade Administration

[A-423-808]

Notice of Extension of Time Limit for Final Results of Administrative Review: Stainless Steel Plate in Coils from Belgium

AGENCY: Import Administration, International Trade Administration, Department of Commerce.

EFFECTIVE DATE: September 26, 2005.

FOR FURTHER INFORMATION CONTACT: Toni Page or Scott Lindsay at (202) 482-1398 or (202) 482-0780, respectively; Office of AD/CVD Operations Office 6, Import Administration, International Trade Administration, U.S. Department of Commerce, 14th Street and Constitution Avenue, NW, Washington, DC 20230.

Statutory Time Limits

Section 751(a)(3)(A) of the Tariff Act of 1930, as amended (the Act) requires the Department to issue the final results in an administrative review within 120 days after the date on which the preliminary results were published. However, if it is not practicable to complete the review within this time period, section 751(a)(3)(A) of the Act allows the Department to extend the time limit for the final results to 180 days from the date of publication of the preliminary results.

Extension of Time Limits for Final Results

On June 3, 2005, the Department published the preliminary results of this administrative review. See Stainless Steel Plate in Coils from Belgium: Preliminary Results of Antidumping Duty Administrative Review (70 FR 32573). The current deadline for the final results in this review is October 3, 2005. However, the Department finds that it is not practicable to complete the review within the original time frame because we have requested additional information pertaining to the U.S. sales database and will need time to analyze the response and the parties' comments on this matter. As such, completion of this review is not practicable within the original time limit.

For the reasons noted above, in accordance with sections 751(a)(3)(A) of the Act and section 351.213(h)(2) of the Department's regulations, the Department is extending the time limit for the completion of the final results until no later than November 30, 2005. This notice is issued and published in accordance with section 751(a)(3)(A) of the Act.

Dated: September 20, 2005.
Barbara E. Tillman,
Acting Deputy Assistant Secretary for Import Administration.

[FR Doc. E5-5174 Filed 9-23-05; 8:45 am]

BILLING CODE 3510-DS-S